ENVIRONMENTAL PROTECTION AGENCY

[ER-FRL-6665-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in the Federal Register dated April 1, 2005 (70 FR 16815).

Draft EISs

EIS No. 20040548, ERP No. D-BLM-J65432-CO, Roan Plateau Resource Management Plan Amendment, Including Former Naval Oil Shale Reserves 1 and 2, Garfield and Rio Blanco Counties, CO.

Summary: EPA expressed environmental concerns with potential adverse impacts from increased access to the top of the plateau, to Colorado Cutthroat from sedimentation from new roads, fragmentation of critical winter habitat for mule deer, and reduction of areas with wilderness characteristics, and recommended that the Final EIS include mitigation measures identified in the analysis to reduce these impacts. Rating EC2.

EIS No. 20050104, ERP No. D-NPS-K61161-CA, Golden Gate National Recreation Area (GGNRA) Fire Management Plan, Implementation, Muir Woods National Monument, Fort Point National Historic Site, San Mateo, San Francisco and Marin Counties, CA.

Summary: EPA expressed environmental concerns regarding smoke management, use of herbicides, and the protection of air quality, water quality, and wetlands. Rating EC2.

EIS No. 20050111, ERP No. D-AFS-K65280-CA, Power Fire Restoration Project, To Reduce Long-Term Furel Loading for the Purpose of Reducing Future Severity and Resistance to Control, Amador Ranger District, Eldorado National Forest, Amador County, CA.

Summary: EPA expressed environmental concerns with the very high risk of cumulative watershed effects and potential effects on water quality, aquatic resources, and air quality, and requested additional information be provided on Clean Air Act conformity requirements, mitigation measures to reduce priority pollutants and consultation with tribal governments. Rating EC2.

EIS No. 20050133, ERP No. D-AFS-F65056-OH, Wayne National Forest, Proposed Revised Land and Resource Management Plan, Implementation, Several Counties, OH.

Summary: EPA supports the proposed alternative, which should improve watershed condition and wildlife habitat as well as meet other multiple use objectives. However, EPA requested additional information on the management of early successional and grassland habitat which could have impacts to declining populations of interior forest birds. The Final EIS should consider additional monitoring to determine invertebrate viability and trends of other important populations. Rating EC2.

EIS No. 20050151, ERP No. D-AFS-K61162-CA, Ansel Adams and John Muir Wildernesses, Trail and Commercial Pack Sock Management, Implementation, Inyo, Mono, Madera, and Fresno Counties, CA.

Summary: EPA expressed environmental concerns with the minimal water quality and ecological improvement predicted with implementing the action alternatives. The Final EIS should include additional management actions, a detailed monitoring and enforcement strategy, especially for special use permits, to improve degraded trails and water quality in meadows, wetlands, and streams. Rating EC2.

EIS No. 20050160, ERP No. D-AFS-L65483-ID, Three Basins Timber Sale Project, Proposal to Treat 760 Acres of Mature Forest, Implementation, Caribou-Targhee National Forest, Montpellier Ranger District, Bearlake and Caribou Counties, ID.

Summary: EPA expressed environmental concerns with identified air impacts from prescribed burning, potential impacts on water quality near 303(d) listed streams, and exceeding Forest Service guidelines. EPA requested that the FEIS estimate PM10 and PM2.5 emissions, clarify the location of 303(d) listed streams relative to project actions, and explain the basis for deviating from the Forest Plan guideline for Visual Quality Objectives. Rating EC1.

EIS No. 20050176, ERP No. D-FAA-L51017-AK, Juneau International Airport, Proposed Development Activities to Enhance Operations Safety, Facilitate Aircraft Alignment, U.S. Army COE Section 404 Permit, City and Borough of Juneau, AK.

Summary: EPA expressed environmental objections because at the loss of high quality estuarine wetlands and related impacts to 303(d) listed streams and wetland functions, and requested a compensatory mitigation option be developed for unavoidable impacts. Rating EO2.

EIS No. 20050177, ERP No. D-AFS-K65282-AZ, Coconino National Forest Project, Re-authorize Grazing on the Pickett Lake and Padre Canyon Allotments, Implementation, Mormon Lake Range District, Coconino County, AZ.

Summary: EPA expressed environmental concerns with impacts to wetlands and requested a commitment in the Record of Decision to require fencing of additional wetlands for the 10 year permit. The Final EIS should disclose locations of grazing impaired soils related to grazing areas and the potential for additional impacts. Rating EC2.

EIS No. 20050199, ERP No. D-DOD-D11037-DC, Armed Forces Retirement Home (AFRH-W), Proposed Master Plan for Campus Located 3700 North Capitol Street, NW., AFRH Trust Fund, Washington, DC.

Summary: EPA expressed concerns related to project impacts to ponds, wetlands, and terrestrial/aquatic biota. Rating EC2.

Final EISs

EIS No. 20050201, ERP No. F-AFS-G65093-NM, San Diego Range Allotment Project, Proposes to Revise Grazing Program, Santa Fe National Forest, Jemez Ranger District, Township 17-19 North, Range 1-3 East, Sandoval County, NM.

Summary: No formal comment letter was sent to the preparing agency.

EIS No. 20050217, ERP No. F-AFS-G65094-NM, Ojo Caliente Proposed Transmission Line, Propose to Authorize, Construct, Operate and Maintain a New 115kV Transmission Line and Substation, Carson National Forest and BLM Taos Field Office, Taos and Rio Arriba Counties, NM.

Summary: No formal comment letter was sent to the preparing agency.

EIS No. 20050245, ERP No. F-COE-K36140-CA, Prado Basin Water Supply Feasibility Study, To Increase Conservation of Surplus Water at Prado Dam and Flood Control Basin, Orange County Water District, Orange, Riverside, and San Bernardino Counties, CA.

Summary: No formal comment letter was sent to the preparing agency.

EIS No. 20050257, ERP No. F-AFS-J65440-MT, Northeast Yaak Project, Proposed Harvest to Reduce Fuels in Old Growth, Implementation, Kootenai National Forest, Three Rivers Ranger District, Lincoln County, MT.

Summary: EPA supports the proposed action to improve old growth and grizzly bear habitats, reduce road impacts to streams and fisheries, noting the importance of adequate funding to implement restoration work. However, EPA has environmental concerns about the proposed opening of Vinal Lake Road 746 because of increased motorized access and potential adverse impacts to wildlife habitat by reducing connectivity.

EIS No. 20050273, ERP No. F-AFS-L65280-ID, Porcupine East, 9 Allotment Grazing Analysis Project, Authorizing Livestock Grazing, Caribou-Targhee National Forest, Dubois Ranger District, Centennial Mountains, Clark County, ID.

Summary: EPA continues to have concerns potential impacts to impaired streams in the project; and supports features of the Preferred alternative that minimize impacts to water quality. However, EPA recommends that once TMDLs are finalized that permits be modified when needed to meet load allocation targets.

EIS No. 20050244, ERP No. FS-NPS-K65325-CA, Merced Wild and Scenic River Revised Comprehensive Management Plan, Amend and Supplement Information, Yosemite National Park, El Portal Administrative Site, Tuolume, Merced, Mono, Mariposa, and Madera Counties, CA.

Summary: No formal letter was sent to the preparing agency.

Dated: July 19, 2005.
Robert W. Hargrove,
Director, NEPA Compliance Division, Office of Federal Activities.

[FR Doc. 05-14552 Filed 7-21-05; 8:45 am]

BILLING CODE 6560-50-P